DEPARTMENT OF ENERGY

U.S. Energy Information Administration

Agency Information Collection Extension

AGENCY: U.S. Energy Information Administration (EIA), Department of Energy.

ACTION: Agency Information Collection Activities: Information Collection Extension; Notice and Request for Comments.

SUMMARY: The EIA intends to extend for three years, Form EIA-851A “Domestic Uranium Production Report (Annual),” Form EIA-851Q “Domestic Uranium Production Report (Quarterly),” and Form EIA-858 “Uranium Marketing Annual Survey,” with the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before May 25, 2012. If you anticipate difficulty in submitting comments within that period, contact the person listed in ADDRESSES as soon as possible.

ADDRESSES: Send comments to Douglas Bonnar. The mailing address is Department of Energy, U.S. Energy Information Administration, Attn: Douglas Bonnar, EI-23, Forrestal Building, 1000 Independence Avenue SW., Washington, DC 20585. To ensure receipt of the comments by the due date, submission by email (douglas.bonnar@eia.gov) is recommended. Alternatively, Douglas Bonnar may be contacted by telephone at 202-586-1085 or by fax at 202-586-3045.

FOR FURTHER INFORMATION CONTACT: Requests for additional information or copies of the forms and instructions should be directed to Douglas Bonnar at the contact information given above. Forms and instructions are also available on the Internet at: http://www.eia.gov/survey/#uranium.

SUPPLEMENTARY INFORMATION: This information collection request contains:

(1) OMB No. 1905-0160;

(2) Information Collection Request Title: Uranium Data Program;

(3) Type of Request: Three-year extension;

(4) Purpose:

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995, (Pub. L. 104-13, 44 U.S.C. chapter 3501 et seq.), provides the general public and other Federal agencies with opportunities to comment on collections of energy information conducted by or in conjunction with the EIA. Any comments received help the EIA to prepare data requests that maximize the utility of the information collected, and to assess the burden of collection requirements on the public. The EIA will later seek approval by the Office of Management and Budget (OMB) under Section 3507(a) of the Paperwork Reduction Act of 1995.

Form EIA-851A collects annual data from the U.S. uranium industry on uranium milling and processing, uranium feed sources, uranium mining, employment, drilling, expenditures, and uranium reserves. The data are used by Congress and the public. The data collected may appear in the following EIA publications: Domestic Uranium Production Report—Annual, http://www.eia.gov/uranium/production/annual/; Domestic Uranium Production Report—Quarterly, http://www.eia.gov/uranium/production/quarterly/; and Annual Energy Review, http://www.eia.gov/totalenergy/data/annual/.

Form EIA-851Q collects monthly data from the U.S. uranium industry on uranium production and sources (mines and other) on a quarterly basis. The data are used by Congress and the public. The data collected may appear in the following EIA publications: Domestic Uranium Production Report—Quarterly, http://www.eia.gov/uranium/production/quarterly/; Domestic Uranium Production Report—Annual, http://www.eia.gov/uranium/production/annual/; and Annual Energy Review, http://www.eia.gov/totalenergy/data/annual/.

Form EIA-858 collects annual data from the U.S. uranium market on uranium contracts, deliveries, inventories, enrichment services purchased, uranium use in fuel assemblies, feed deliveries to enrichers, and unfilled market requirements. Uranium deliveries, feed deliveries to enrichers, and unfilled market requirements are reported both for the current reporting year and for the following ten years. The data are used by Congress and the public. The data collected may appear in the following EIA publications: Uranium Marketing Annual Report, http://www.eia.gov/uranium/marketing/; Domestic Uranium Production Report—Annual, http://www.eia.gov/uranium/production/annual/; and Annual Energy Review, http://www.eia.gov/totalenergy/data/annual/.

(4a) Proposed Changes to Information Collection:

The EIA proposes the following changes:

For Form EIA-851A, EIA proposes two minor changes to clarify the instructions for Item 8, Reserve (Reasonably Assured Resource) Estimate. The proposed instructions are:

Item 8: Reserve (Reasonably Assured Resource) Estimate

For each property, provide:

State—Enter the State of the property.

Reserve (Reasonably Assured Resource) Estimates by Forward Cost Categories—Enter the reserve (reasonably assured resource) quantities for ore, grade, and pounds U3O8 by cost categories. For reporting purposes, EIA considers reserves and reasonably assured resources to be functionally equivalent. Do not report inferred resources.

For Form EIA-851Q, EIA purposes to collect supervisor information in addition to the responding company, the parent company, and the contact/preparer information.

For Form EIA-858, EIA proposes changes to clarify the instructions for Item 5, Uranium Feed Deliveries to U.S. and Foreign Enrichers in the Survey Year. The proposed instructions are:

Item 5. Uranium Feed Deliveries to U.S. and Foreign Enrichers in the Survey Year: Enter the country origins and associated quantity of uranium feed shipped to enrichment plants, indicating each country where enrichment plant is located.

(5) Annual Estimated Number of Respondents: 160;

(6) Annual Estimated Number of Total Responses: 205;

(7) Annual Estimated Number of Burden Hours: 1,450 hours;

(8) Annual Estimated Reporting and Recordkeeping Cost Burden: $0. There are no additional costs to respondents associated with the survey other than the costs associated with the burden hours.

Statutory Authority: Section 13(b) of the Federal Energy Administration Act of 1974, Pub. L. 93-275, codified at 15 U.S.C. 772(b).

Issued in Washington, DC, on March 20, 2012.
Stephanie Brown,
Director, Office of Survey Development and Statistical Integration, U.S. Energy Information Administration.

[FR Doc. 2012-7194 Filed 3-23-12; 8:45 am]

BILLING CODE 6450-01-P